DEPARTMENT OF LABOR

Employment and Training Administration

[TA-W-73,023]

Eagle Sportswear, Inc.; New York, NY; Notice of Termination of Investigation

Pursuant to Section 223 of the Trade Act of 1974, as amended, an investigation was initiated in response to a petition filed on December 4, 2009 by a company official on behalf of workers of Eagle Sportswear, Inc., New York, New York.

The petitioner has requested that the petition be withdrawn. Consequently, the investigation has been terminated.

Signed at Washington, DC, this 8th day of January 2010.
Elliott S. Kushner,
Certifying Officer, Division of Trade Adjustment Assistance.

[FR Doc. 2010-5363 Filed 3-11-10; 8:45 am]

BILLING CODE 4510-FN-P